DEPARTMENT OF TRANSPORTATION

Federal Aviation Administration

Aviation Rulemaking Advisory Committee Meeting on Air Carrier and General Aviation Maintenance Issues

AGENCY: Federal Aviation Administration (FAA), DOT.

ACTION: Notice; correction.

SUMMARY: The Federal Aviation Administration (FAA) is issuing this notice to advise the public that the December 5, 2001, meeting of the FAA Aviation Rulemaking Advisory Committee to discuss Air Carrier and General Aviation Maintenance Issues related to repair station ratings and quality assurance programs has been rescheduled and the meeting location has been changed.

FOR FURTHER INFORMATION CONTACT: Vanessa R. Wilkins, Federal Aviation Administration, Office of Rulemaking (ARM-207), 800 Independence Avenue, SW., Washington, DC 20591, telephone (202) 267-8029; fax (202) 267-5075.

Correction

In the Federal Register of November 20, 2001, in FR Doc. 01-28930, on page 58187 the third column, correct the DATES caption to read:

DATES: The meeting will be held on December 11, 2001, from 9:30 a.m. to 5:30 p.m.

On page 58187, in the third column correct the ADDRESSES caption to read:

ADDRESSES: The meeting will be held at the National Air Carrier Association, 910 Seventeenth Street, NW., Suite 1100, Washington, DC, 20006.

Dated: November 21, 2001.
Anthony F. Fazio,
Executive Director, Aviation Rulemaking Advisory Committee.

[FR Doc. 01-29636 Filed 11-28-01; 8:45 am]

BILLING CODE 4910-13-M